DEPARTMENT OF ENERGY

Federal Energy Regulatory Commission

[Docket No. AD16-25-000]

Utilization In the Organized Markets of Electric Storage Resources as Transmission Assets Compensated Through Transmission Rates, for Grid Support Services Compensated in Other Ways, and for Multiple Services; Notice Inviting Post-Technical Conference Comments

On November 9, 2016, the Federal Energy Regulatory Commission staff convened a technical conference to discuss the utilization of electric storage resources as transmission assets compensated through transmission rates, for grid support services that are compensated in other ways, and for multiple services.

All interested persons are invited to file post-technical conference comments on the topics discussed in the Supplemental Notice of Technical Conference issued in this proceeding on November 1, 2016 (Supplemental Notice), including the questions listed therein. Commenters need not respond to all topics or questions asked. Commenters should organize responses consistent with the organization of the topics and questions in the Supplemental Notice. Commenters may reference material previously filed in this docket, including the technical conference transcript, but are encouraged to submit new or additional information rather than reiterate information that is already in the record. In particular, commenters are encouraged, when possible, to provide examples in support of their answers. These comments are due within 30 days of the date of this notice.

For more information about this notice, please contact:

Rahim Amerkhail (Technical Information), Office of Energy Policy and Innovation, Federal Energy Regulatory Commission, 888 First Street NE., Washington, DC 20426, (202) 502-8266, rahim.amerkhail@ferc.gov.

Heidi Nielsen (Legal Information), Office of the General Counsel, Federal Energy Regulatory Commission, 888 First Street NE., Washington, DC 20426, (202) 502-8435, heidi.nielsen@ferc.gov.

Sarah McKinley (Logistical Information), Office of External Affairs, Federal Energy Regulatory Commission, 888 First Street NE., Washington, DC 20426, (202) 502-8004, sarah.mckinley@ferc.gov.

Dated: November 14, 2016.
Nathaniel J. Davis, Sr.,
Deputy Secretary.

[FR Doc. 2016-27753 Filed 11-17-16; 8:45 am]

BILLING CODE 6717-01-P